DEPARTMENT OF AGRICULTURE

Natural Resources Conservation Service

Notice of Availability of Finding of No Significant Impact and Environmental Assessment for the Environmental Quality Incentives Program

AGENCY: Natural Resources Conservation Service, USDA.

ACTION: Notice.

SUMMARY: The Natural Resources Conservation Service (NRCS) has prepared a Finding of No Significant Impact (FONSI) and an Environmental Assessment (EA) consistent with the National Environmental Policy Act (NEPA) of 1969, as amended, to implement the Environmental Quality Incentives Program, which is authorized by 16 U.S.C. 3839aa. Upon review of the analysis of potential environmental impacts from a national perspective, the Chief of NRCS found that the program would not result in a significant impact on the quality of the human environment, particularly when focusing on the significant adverse impacts that NEPA is intended to help decision-makers avoid and mitigate against. Therefore, a FONSI was issued, and no environmental impact statement is required for national implementation of the program.

DATES: To ensure consideration, comments on the EA and FONSI must be postmarked on or before June 19, 2003.

ADDRESSES: Comments must be sent to Charles Whitmore, Acting Director, Conservation Operations Division, NRCS, U.S. Department of Agriculture, P.O. Box 2890, Room 6034-S, Washington, DC 20013-2890.

FOR FURTHER INFORMATION CONTACT: Copies of the FONSI, the Final EA, or additional information on matters related to this Federal Register Notice can be obtained by contacting one of the following individuals at the addresses and telephone numbers shown below:

Mr. Anthony Esser, Environmental Quality Incentives Program Manager, Conservation Operations Division, NRCS, U.S. Department of Agriculture, P.O. Box 2890, Room 6039-S, Washington, DC 20013-2890, Telephone: (202) 720-1840. Ms. Andrée DuVarney, National Environmental Specialist, Ecological Sciences Division, NRCS, U.S. Department of Agriculture, P.O. Box 2890, Room 6158-S, Washington, DC 20013-2890, Telephone: (202) 720-4925.

SUPPLEMENTARY INFORMATION:

Description of the Proposed Action

The Environmental Quality Incentives Program (EQIP) is a voluntary program providing technical and financial assistance to agricultural producers for planning and implementing natural resource conservation practices on their farms and ranches. The purposes of EQIP, as amended by the 2002 Act, are to promote agricultural production and environmental quality as compatible national goals, and to optimize environmental benefits. The need to which NRCS is responding by proposing action is the need to implement EQIP as amended by the 2002 Act in a manner that achieves the purposes for which Congress authorized EQIP, including:

1. Assisting producers to comply with local, State, and national regulatory requirements concerning soil, water, and air quality; wildlife habitat; and surface and groundwater conservation;

2. Assisting producers to address national, State, Tribal, and local resource concerns so that there is no need for resource and regulatory programs;

3. Providing flexible assistance to producers to install and maintain conservation practices that enhance soil, water, related natural resources (including grazing lands and wetlands), and wildlife, while sustaining production of food and fiber; and

4. Assisting producers to make beneficial, cost-effective changes to cropping systems, grazing management, nutrient management associated with livestock, pest or irrigation management, or other practices on agricultural land.

Alternatives Analyzed

The allocation of EQIP funds is the only major program decision made at the national level that has an impact on the quality of the human environment because of the authority and flexibility that must be given to the NRCS State Conservationists to meet the program purposes, and because funding affects where practices will be implemented. NRCS considered three alternatives describing ways to allocate EQIP funds to the States, including allocating EQIP funds based on a national allocation formula, allocating EQIP funds in equal amounts to all States, or a no action alternative. The 2002 Act authorized the expenditure of additional, separate funds for promotion of ground and surface water conservation, so a separate set of alternatives addressed allocation of those funds, including allocating Ground and Surface Water Conservation (GSWC) funds based on an annual national evaluation of critical ground and surface water conservation needs, allocating the GSWC funds in equal amounts to all States, or a no action alternative.

The EA describes potential impacts associated with the alternatives described. The alternatives did not directly result in impacts to the quality of the human environment, but they do have an indirect effect on the geographic location of acres treated by EQIP funded conservation practices. The discussion under each alternative focused on the effects that the decision alternatives would have on where conservation practices would most likely be implemented. NRCS developed network diagrams depicting the chain of natural resource effects resulting from the application of each practice. Based on the analysis, NRCS determined that the use of a national allocation formula best ensured that funds were distributed in a manner that environmental benefits are optimized, and States and Territories with the most significant environmental and natural resource concerns can effectively address national conservation priorities.

Finding of No Significant Impact

Upon review of the analysis of potential environmental impacts associated with the selected alternatives, the Chief of NRCS found that, from a national perspective, the program would not result in a significant impact on the quality of the human environment, particularly when focusing on the significant adverse impacts that NEPA is intended to help decision-makers avoid and mitigate against. Because of the potential to affect one type of resource while improving the condition of another resource, there may, at times, be minimal site-specific adverse environmental effects, individually or cumulatively. As in the past administration of EQIP, NRCS will continue to prepare documentation of an environmental evaluation on a site-specific level, and will consult with the appropriate entities to avoid, reduce, or mitigate adverse impacts on protected resources. NRCS will also comply with requirements protecting unique geographic features and other resources, as well as policies protecting natural resources. To the extent that other NRCS EQIP activities may result in significant effects to the quality of the human environment, a State or area-wide EA or Environmental Impact Statement may be prepared separately from the National EA. Therefore, a FONSI was issued and no environmental impact statement is required to support national implementation of the program.

Copies of the EA and FONSI may be reviewed at the following location: Conservation Operations Division, NRCS, U.S. Department of Agriculture, Room 5227-S, Washington, DC 20013-2890. The documents may also be accessed on the Internet, at http://www.nrcs.usda.gov/programs/EnvAssess/EQIP/EQIP.html.

Signed in Washington, DC, on May 8, 2003.
Bruce I. Knight,
Chief, Natural Resources Conservation Service.

[FR Doc. 03-12526 Filed 5-19-03; 8:45 am]

BILLING CODE 3410-16-P